DEPARTMENT OF AGRICULTURE

Natural Resources Conservation Service

Availability of Proposed Changes to Conservation Practice Standards, Field Office Technical Guide, North Carolina

AGENCY: Natural Resources Conservation Service, USDA.

ACTION: Notice of Availability of proposed changes to conservation practice standards in Section IV of the Field Office Technical Guide (FOTG) of NRCS in North Carolina for review and comment.

SUMMARY: It is the intention of NRCS in North Carolina to issue revised conservation practice standards in Section IV of the FOTG for the following practices:

Animal Mortality Freezer (774)

Closure of Abandoned Waste Facility (360)

Conservation Crop Rotation (328)

Contour Farming (330)

Cover and Green Manure Crop (340)

Cross-Slope Farming (Interim) (733)

Grassed Waterway (412)

Incinerator (769)

Irrigation System, Trickle (441)

Long Term No-Till (778)

Pond Sealing and Lining, Flexible Membrane (521-A)

Shallow Water Management for Wildlife (646)

Waste Storage Facility (313)

Well (642)

Wetland Restoration (657)

DATES: Comments on this notice must be received on or before March 7, 2001.

ADDRESSES: All comments concerning the proposed conservation practice standards changes should be addressed to: Mary Combs, State Conservationist, NRCS, 4405 Bland Road, Suite 205, Raleigh, North Carolina 27609. Copies of these standards will be made available upon written request.

Dated: January 26, 2001.
Lane C. Price,
Assistant State Conservationist for Programs, Natural Resources Conservation Service, Raleigh, North Carolina 27609.

[FR Doc. 01-2976 Filed 2-2-01; 8:45 am]

BILLING CODE 3410-16-P